DEPARTMENT OF COMMERCE

National Oceanic and Atmospheric Administration

Advisory Committee for Excellence in Space (ACES); Notice of Meeting

AGENCY: Office of Space Commerce (OSC), National Oceanic and Atmospheric Administration (NOAA), Department of Commerce (DOC).

ACTION: Notice of meeting.

SUMMARY: In accordance with the Federal Advisory Committee Act, as amended, the NOAA Office of Space Commerce announces the inaugural meeting of the Advisory Committee for Excellence in Space (ACES).

DATES: October 3, 2024, from 9 a.m. to 5 p.m. EDT.

ADDRESSES: U.S. Department of Commerce, Herbert C. Hoover Building—Commerce Research Library, 1401 Constitution Ave NW, Washington, DC 20230. In-person participation is limited to ACES members and DOC personnel. Public participation will occur via a hybrid format. The link for webinar registration will be posted, when available, on the ACES website, http://www.space.commerce.gov/aces.

FOR FURTHER INFORMATION CONTACT: Jason Y. Kim, Designated Federal Officer, Advisory Committee for Excellence in Space (ACES), NOAA Office of Space Commerce, U.S. Department of Commerce, Washington, DC 20230. Telephone: 202-482-5827. Email: space.commerce@noaa.gov.

SUPPLEMENTARY INFORMATION: ACES provide advice and recommendations to the NOAA Under Secretary or OSC Director on matters relating to OSC's statutory purview. Originally established in 2002 as the Advisory Committee on Commercial Remote Sensing, ACES was rescoped and rechartered in 2024 to address a broader range of commercial space issues.

Agenda: The meeting will include discussions on topics pertinent to commercial space policy, regulation, and operational mission support, including:

• Licensing of private remote sensing space systems

• Authorization and supervision of novel space missions

• Space sustainability, including space situational awareness

• International commercial space partnerships

• Expanding applications and markets for commercial space capabilities

A detailed agenda with meeting materials will be available closer to the meeting date on the ACES website, http://www.space.commerce.gov/aces.

Written Comments: Members of the public may submit written comments to ACES at space.commerce@noaa.gov by September 27, 2024.

Special Accommodations: Requests for special accommodations may be directed to the Designated Federal Officer no later than September 27, 2024.

Dated: September 11, 2024.
Richard DalBello,
Director of Office of Space Commerce.

[FR Doc. 2024-21105 Filed 9-16-24; 8:45 am]

BILLING CODE 3510-01-P